COMMISSION ON CIVIL RIGHTS

Sunshine Act Meetings

AGENCY: Commission on the Social Status of Black Men and Boys (CSSBMB), U.S. Commission on Civil Rights.

ACTION: Notice of CSSBMB public business meeting.

DATES: Thursday, February 22 11:00 a.m.-12:00 p.m. EDT.

ADDRESSES: Meeting to take place virtually and is open to the public via livestream on the Commission's YouTube page: https://youtube.com/live/oST5qtvdwSI.

FOR FURTHER INFORMATION CONTACT: Diamond Newman, 202-339-2371, dnewman@usccr.gov.

SUPPLEMENTARY INFORMATION: In accordance with Public Law 116-156, 1134 Stat. 700 (2020), the Commission on the Social Status of Black Men and Boys (CSSBMB) will hold its Second Quarter Business Meeting exploring CSSBMB business items, operations, and next steps. This business meeting is open to the public via livestream on the Commission on Civil Rights' YouTube page at https://youtube.com/live/oST5qtvdwSI. (Streaming information subject to change.) Public participation is available for the event with view access, along with an audio option for listening. Computer assisted real-time transcription (CART) will be provided. The web link to access CART (in English) on February 22 is http://upload.youtube.com/closedcaption?cid=faem-bz2w-gq0r-btyz-64jw.

Please note that CART is text-only translation that occurs in real time during the meeting and is not an exact transcript.

* Date and meeting details are subject to change. For more information on the CSSBMB or the upcoming public briefing, please visit www.usccr.gov/CSSBMB and CSSBMB's Instagram, Facebook, and X.

* Briefing Agenda

(1) Welcome and Call to Order (11:00 a.m.-11:03 a.m.)

(2) Business Meeting (order of business) (11:03 a.m.-11:06 a.m.)

(a) Quorum: (11:06 a.m.-11:09 a.m.)

(b) Adoption of Agenda (11:09 a.m.-11:12 a.m.)

(c) New Order of Business (11:12 a.m.-11:50 a.m.)

(3) Approval of Minutes

(i) ii. Chair's Report

a. Vision and goals

b. State of the Commission

c. Introduction of New Commissioners

(ii) Joesph Palm of HHS

(iii) Commission rules

(iv) Upcoming highlighted events

(v) White House Visit (February)

(vi) Ribbon Cutting (May)

(vii) Crime Prevention (April)

(viii) In-Person Business Mtg (May)

(ix) Caucus on the Commission—Upcoming Events

(x) Second Annual Act Now Summit (July)

(xi) Fatherhood and Father's Day (June)

(xii) Tentative FY Business meeting proposed dates

(xiii) May 21, 2024

(xiv) ii. August 20, 2024

(a) iii. Director's Report

a. Update Profile Information

b. Proposed/Current Initiatives

i. Finalizing Annual Report

ii. Social Media Campaign—Black History Month

iii. New Commissioner Press Release

iv. Website Creation

v. 2024 Planning

vi. Education White Paper

vii. Summit and Briefing

(xv) iv. Open Discussion

(4) Chair Comments/Adjourn Meeting (11:50 a.m.-12:00 p.m.)

Dated: February 21, 2024.
Zakee Martin,
Deputy Director, Commission on the Social Status of Black Men & Boys, United States Commission on Civil Rights (USCCR).

[FR Doc. 2024-03939 Filed 2-22-24; 11:15 am]

BILLING CODE 6335-01-P